DEPARTMENT OF THE INTERIOR

Fish and Wildlife Service

[FWS-R4-R-2009-N0074; 40136-1265-0000-S3]

Bayou Teche National Wildlife Refuge, St. Mary Parish, LA

AGENCY: Fish and Wildlife Service, Interior.

ACTION: Notice of availability: draft comprehensive conservation plan and environmental assessment; request for comments.

SUMMARY: We, the U.S. Fish and Wildlife Service (Service), announce the availability of a draft comprehensive conservation plan and environmental assessment (Draft CCP/EA) for Bayou Teche National Wildlife Refuge (NWR) for public review and comment. In this Draft CCP/EA, we describe the alternative we propose to use to manage this refuge for the 15 years following approval of the final CCP.

DATES: To ensure consideration, we must receive your written comments by July 8, 2009.

ADDRESSES: Send comments, questions, and requests for information to: Mr. Paul Yakupzack, Refuge Manager, Bayou Teche NWR, 3599 Bayou Black Drive, Houma, LA 70360. The Draft CCP/EA is available on compact disk or in hard copy. The Draft CCP/EA is also available at the Service's Internet site: http://southeast.fws.gov/planning/.

FOR FURTHER INFORMATION CONTACT: Mr. Paul Yakupzack; telephone: 985/853-1078; fax: 985/853-1079; e-mail: paul_yakupzack@fws.gov.

SUPPLEMENTARY INFORMATION:

Introduction

With this notice, we continue the CCP process for Bayou Teche NWR. We started this process through a notice in the Federal Register on March 19, 2007 (72 FR 12811).

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Bayou Teche NWR is located near the town of Franklin in St. Mary Parish, Louisiana. The refuge contains 9,028 acres and is composed of wet bottomland hardwood forests laced with bayous and canals. The refuge was established on lands important to the coastal subpopulation of the Louisiana black bear. The refuge consists of six separate units, ranging in size from 3,724 acres to 80 acres. Bayou Teche NWR is one of eight refuges within the Southeast Louisiana NWR Complex, which is headquartered in Lacombe, Louisiana.

CCP Alternatives, Including Our Proposed Alternative

We developed three alternatives for managing the refuge and chose Alternative B as the proposed alternative. A full description is in the Draft CCP/EA. We summarize each alternative below.

Alternative A—No Action Alternative

Under this alternative, no new actions would be taken to improve or enhance the refuge's current habitat, wildlife, and public use management programs. Species of Federal responsibility, such as threatened and endangered species and migratory birds, would continue to be monitored at present levels. Additional species monitoring would occur through the use of volunteers as they become available. Current programs of marsh management would be maintained, with no improvements or adaptations. No progressive wetland restoration projects would be implemented. All public use programs of hunting, fishing, wildlife observation, wildlife photography, and environmental education and interpretation would continue at present levels and with current facilities.

Acquisition of lands into the refuge would occur when funding is appropriated and willing sellers offer land that is quality waterfowl or Louisiana black bear habitat. Staff would consist of a refuge manager and a wildlife biologist supporting both Bayou Teche NWR and Mandalay NWR; a part-time law enforcement officer supporting Bayou Teche NWR; and supplementary support from the remainder of the Southeast Louisiana NWR Complex staff when needed. The refuge headquarters would serve as an administrative office, with no enhancement of the grounds for public use.

Alternative B—Resource Focused Management (Proposed Alternative)

Alternative B would emphasize management of the natural resources of Bayou Teche NWR based on maintaining and improving Louisiana black bear and wetland habitats, monitoring targeted flora and fauna representative of the Lower Atchafalaya River Basin, and providing quality wildlife-dependent public use activities. All species occurring on the refuge would be considered and certain targeted species would be managed and monitored, in addition to species of Federal responsibility. These species would be chosen based on the criteria that they would be indicators of the health of important habitat or species of concern.

Wetland loss would be documented and, whenever possible, the lost wetlands would be restored. Public use programs would be improved by offering more facilities and wildlife observation areas. Public use facilities would undergo annual reviews for maintenance needs and safety concerns. Overall public use would be monitored to determine if any uses would negatively impact refuge resources. Education programs would be reviewed and improved to complement current refuge management and staffing. Archaeological resources would be surveyed.

Land acquisition within the approved acquisition boundary would be based on importance of the habitat for target management species. The refuge headquarters would house a small administrative office. We would offer interpretation of refuge wildlife and habitats, as well as demonstrate habitat improvements for individual landowners. The main interpretive facilities would be housed at the Southeast Louisiana NWR Complex Headquarters in Lacombe, Louisiana.

In general, under Alternative B, management decisions and actions would support wildlife species and habitats occurring on the refuge based on well-planned strategies and sound scientific judgment. Quality wildlife-dependent recreational uses and environmental education and interpretation programs would be offered to support and explain the natural resources of the refuge.

Alternative C—Maximized Public Use

Alternative C would emphasize the management of natural resources of Bayou Teche NWR for maximized public use activities. The majority of staff time and efforts would support hunting, fishing, wildlife observation, wildlife photography, and environmental education and interpretation. Federal trust species and archaeological resources would be monitored as mandated.

All refuge programs for conservation of wildlife and habitats, such as monitoring, surveying, and managing marsh, would support species and resources of importance for public use. More emphasis would be placed on interpreting and demonstrating these programs. Access, through means such as trails for walking and dredged areas for boat access, would be maximized, and we would provide public use facilities throughout the refuge.

Land acquisition within the approved acquisition boundary would be based on importance of the habitat for public use. The refuge headquarters at Mandalay NWR would provide a small administrative office and a visitor center, which would be developed for public use activities.

In general, Alternative C would focus on expanding public use activities to the fullest extent possible and conducting only mandated resource protection.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: May 9, 2009.
Cynthia K. Dohner,
Acting Regional Director.

[FR Doc. E9-13329 Filed 6-5-09; 8:45 am]

BILLING CODE 4310-55-P